ENVIRONMENTAL PROTECTION AGENCY

40 CFR Part 300

[FRL-7145-1]

National Oil and Hazardous Substances Pollution Contingency Plan National Priorities List

AGENCY: Environmental Protection Agency (EPA).

ACTION: Notice of intent to delete the Austin Avenue Radiation Superfund Site from the National Priorities List.

SUMMARY: The Environmental Protection Agency (EPA), Region III, announces its intent to delete the Austin Avenue Radiation Superfund Site (Site) from the National Priorities List (NPL) and requests public comment on this action. The NPL constitutes appendix B of 40 CFR part 300, which is the National Oil and Hazardous Substance Pollution Contingency Plan (NCP). EPA promulgated the NCP pursuant to section 105 of the Comprehensive Environmental Response, Compensation, and Liability Act of 1980, as amended (CERCLA), 42 U.S.C. 9605. EPA and the Pennsylvania Department of Environmental Protection (PADEP) have determined that the Site may be deleted from the NPL because all Fund-financed response under CERCLA has been implemented and no further response action by responsible parties is appropriate.

DATES: Comments concerning the proposed deletion of this Site from the NPL may be submitted on or before March 21, 2002.

ADDRESSES: Comments may be mailed to: Mr. David Turner, Remedial Project Manager, U.S. Environmental Protection Agency, Region III, (3HS22), Philadelphia, PA, 19103-2029, e-mail turner.david@epa.gov.

Information Repositories: Comprehensive information on the Site has been compiled in a public deletion docket which may be reviewed and copied during normal business hours at the following information repositories: U.S. EPA Region III Library (2nd Floor), 1650 Arch Street, Philadelphia, Pennsylvania 19103-2029, telephone 215-814-5254 and the Lansdowne Borough Library, 55 S. Lansdowne Avenue, Lansdowne Pennsylvania 19050, telephone 610-623-0239.

FOR FURTHER INFORMATION CONTACT: Contact Mr. David Turner, Remedial Project Manager, U.S. Environmental Protection Agency, Region III, (3HS22), Philadelphia, PA, 19103-2029, e-mail turner.david@epa.gov, telephone 215-814-3216.

SUPPLEMENTARY INFORMATION:

I. Introduction

II. NPL Deletion Criteria

III. Deletion Procedures

IV. Basis for Intended Site Deletion

I. Introduction

The U.S. Environmental Protection Agency (EPA), Region III, announces its intent to delete the Austin Avenue Radiation Superfund Site (CERCLIS No. PAD987341716), located in Lansdowne Borough, Aldan Borough, East Lansdowne Borough, Darby Borough, and Upper Darby Township, Delaware County, Pennsylvania, from the National Priorities List (NPL) and requests public comment on this proposed action. The NPL constitutes appendix B of 40 CFR part 300, which is the National Oil and Hazardous Substances Pollution Contingency Plan (NCP). EPA promulgated the NCP pursuant to section 105 of the Comprehensive Environmental Response, Compensation, and Liability Act of 1980, as amended (CERCLA), 42 U.S.C. 9605. EPA identifies sites that appear to present a significant risk to public health, welfare, or the environment and maintains the NPL as the list of these sites. As described in § 300.425(e)(3) of the NCP, sites deleted from the NPL remain eligible for remedial actions in the unlikely event that conditions at the site warrant such action. EPA and the Pennsylvania Department of Environmental Protection (PADEP) have determined that the remedial action for the site has been successfully executed.

EPA will accept comments on the proposal to delete this Site for thirty (30) days after publication of this document in the Federal Register.

Section II of this document explains the criteria for deleting sites from the NPL. Section III discusses the procedures that EPA is using for this action. Section IV discusses the Austin Avenue Radiation Superfund Site and explains how the Site meets the deletion criteria established in the NCP.

II. NPL Deletion Criteria

Section 300.425(e)(1) of the NCP provides that releases may be deleted from, or recategorized on, the NPL where no further response is appropriate. In making a determination to delete a release from the NPL, EPA shall consider, in consultation with the state, whether any of the following criteria have been met:

(i) Responsible parties or other parties have implemented all appropriate response actions required; or

(ii) All appropriate Fund-financed responses under CERCLA have been implemented, and no further action by responsible parties is appropriate; or

(iii) The Remedial Investigation has shown that the release poses no significant threat to public health or the environment and, therefore, remedial measures are not appropriate.

If new information becomes available which indicates a need for further action, EPA may initiate additional remedial actions. Whenever there is a significant release from a site which has been deleted from the NPL, the site may be restored to the NPL without application of the Hazard Ranking System.

III. Deletion Procedures

EPA followed these procedures in advance of publishing this Notice: (1) EPA Region III determined that no further response action is necessary in connection with the Site to ensure protection of human health and the environment and that the Site may be deleted from the NPL; (2) EPA consulted with the Pennsylvania Department of Environmental Protection (PADEP (formerly the Pennsylvania Department of Environmental Resources)) regarding EPA's intent to delete the Site, and PADEP concurred with EPA's proposed deletion decision; (3) EPA published, in a major local newspaper of general circulation at or near the Site, and distributed to appropriate State, local, and Federal officials and to other interested parties, a notice announcing the proposed deletion of the Site and the commencement of a 30-day public comment period; and (4) EPA made copies of information supporting the proposed deletion (i.e., the public deletion docket) available for public review in the Site information repositories (the locations of these repositories are identified above).

EPA Region III will accept and evaluate public comments on this Notice before making a final decision to delete the Austin Avenue Radiation Superfund Site from the NPL. In accordance with § 300.425(e)(4) of the NCP, 40 CFR 300.425(e)(4), EPA will prepare a Responsiveness Summary to address any significant public comments received. Deletion occurs upon publication of a final notice in the Federal Register. Generally, the NPL will reflect deletion of a site in the final update following publication of the Notice proposing the deletion. Public notices and copies of the Responsiveness Summary will be made available to the public by EPA Region III.

Deletion of a site from the NPL does not itself create, alter, or revoke any individual's rights or obligations. The NPL is designed primarily for informational purposes and to assist Agency management. Section 300.425(e)(3) of the NCP, 40 CFR 300.425(e)(3), makes clear that the deletion of a site from the NPL does not preclude future response actions at that site.

IV. Basis for Intended Site Deletion

The following summary provides the Agency's rationale for the proposal to delete the Austin Avenue Radiation Superfund Site from the NPL.

Site Background and History

The Austin Avenue Radiation Superfund Site (Site) is located on and near parcels in Lansdowne Borough, Aldan Borough, East Lansdowne Borough, Darby Borough, Upper Darby Township, and Yeadon Borough, Delaware County, Pennsylvania. These parcels are all within a two-mile radius of the former W. L. Cummings (Cummings) radium refining operation, which was located at the intersection of Austin and South Union Avenues in Lansdowne. The parcels are listed below.

Austin Avenue Site Property Parcels Listing

Lansdowne Borough: 11 Greenwood Avenue, 126 Owen Avenue, 216 Wayne Avenue, 218 Wayne Avenue, 219 Wayne Avenue, 237 North Lansdowne Avenue, 6 East Plumstead Avenue, 10 East Plumstead Avenue, 16 East Plumstead Avenue, 42/44 South Union Avenue, 129 Austin Avenue, 131 Austin Avenue, 133 Austin Avenue, 134 Austin Avenue, and 30/36 S. Union Avenue (the former W. L. Cummings Radium Refinery (Warehouse Property));

East Lansdowne Borough: 25 Beverly Avenue, 28 Lewis Avenue, 34 Lewis Avenue, 210 Lewis Avenue , 246 Melrose Avenue, 211 Penn Boulevard, 25 Lexington Avenue,137 Lexington Avenue, 139 Lexington Avenue, 151 Lexington Avenue and 155 Lexington Avenue;

Upper Darby Township: 500 Harper Avenue, 504 Harper Avenue, 346 Owen Avenue, 310 Shadeland Avenue and 3723 Huey Avenue;

Aldan Borough: 62 South Clifton Avenue and 64 South Clifton Avenue;

Darby Borough: 617 Pine Street, 619 Pine Street, 621 Pine Street and 623 Pine Street;

Yeadon Borough: Yeadon Borough Park and South Union Avenue.

The Site properties were contaminated with radium (Ra226) and thorium (Th230) from tailings generated at the warehouse on South Union Avenue by the defunct W. L. Cummings Radium Processing Co. Cummings operated a radium-refining operation from 1915 to 1925 at this location. In the late 1910's and early 1920's, masonry and building contractors used the sand-like tailings from the Cummings plant as aggregate for, among other things, laying mortar between brick and stone masonry, pointing mortar on stone or brick masonry, applying stucco on building exteriors, applying plaster to building interiors, and laying concrete for sidewalks and basement slabs. The tailings were also used as fill under basement slabs, exterior perimeter foundation walls, and other miscellaneous applications.

In May 1991, PADEP visited the former Cummings' property to monitor for radon. Radioactive contamination had previously been discovered in the back yard of 133 Austin Avenue, a parcel adjacent to the warehouse property. During this visit, radiation instruments further indicated the presence of significant levels of radioactive contamination. On June 7, 1991, PADEP notified EPA of its findings and requested assistance. A joint PADEP/EPA site assessment confirmed the presence of radiological contamination at 133 Austin Avenue at levels that warranted immediate action.

On June 19, 1991, a team of radiation specialists from EPA's National Air and Radiation Environmental Laboratory, Montgomery, Alabama, conducted an assessment using special radiation detection equipment. The warehouse and the adjacent residential dwelling, 133 Austin Avenue, were found to be heavily contaminated with radioactive materials. In November and December of 1991, EPA conducted a survey in a 12.5 square mile area of Delaware County and a small portion of the adjacent City of Philadelphia to detect radiological anomalies using a specially-equipped radiation detection van. EPA subsequently conducted followup surveys at those parcels found to exhibit radiological activity during the van survey. The testing revealed that thirty-seven properties within a two-mile radius of the former Cummings radium processing facility were radiologically contaminated.

On February 7, 1992, EPA proposed the Site to the National Priorities List (NPL) (57 FR 4824) and finalized the listing on October 14, 1992 (57 FR 47180).

Response Actions—Operable Unit One

EPA conducted response actions under the CERCLA removal program at nineteen contaminated properties from June 12, 1991 through August 23, 1995 at a total cost of approximately $23.6 million. The removal actions included temporary relocation of residents of several contaminated properties; the complete dismantlement and disposal of the warehouse structure at South Union and Austin Avenues; dismantlement and disposal of the house at 133 Austin Avenue; excavation and disposal of radiologically contaminated soils; and removal and disposal of contaminated plaster, stucco, concrete, and soils at the other properties.

On June 27, 1994, EPA issued a Record of Decision (ROD) selecting remedial actions for implementation at the remaining properties. The remedial actions included, among other things, the removal of radiologically contaminated building components and repair/reconstruction of such components at several parcels; permanent off-Site relocation of several homeowners to existing housing followed by demolition and disposal of their original homes; temporary off-Site relocation of several homeowners followed by demolition, disposal, and on-Site reconstruction of their original homes; excavation and disposal of radiologically contaminated soils at the warehouse property; and post-cleanup verification to confirm that cleanup standards established in the ROD were achieved. EPA removed and disposed of approximately 5951.44 tons of radiologically contaminated debris; 150,000 cubic feet of contaminated soils; 1620 cubic feet of asbestos-containing materials; and 1910 tons of non-hazardous construction debris.

Cleanup standards selected by EPA in the ROD required that all Site-related soil contamination at residential and potentially residential properties be removed to 5 pCi/g, averaged over 100 square meters ¹; that Site-related soil contamination at public-use properties (defined by example as streets and railroad rights-of-way) be removed to the residential standard if radium 226 concentrations exceeded 5 pCi/g in the top 15 centimeters and/or 15 pCi/g in subsoils, averaged over 100 square meters; and that institutional controls restricting land use be implemented if cleanup to these standards could not be achieved. The cleanup standards have been achieved and no institutional controls are necessary. There are no operation or maintenance requirements to ensure the continued protectiveness of the remedial actions.

¹ A post-ROD memorandum to the Site file clarifies that the 5 pCi/g cleanup standard articulated in the ROD was intended to be averaged over 100 square meters.

Response Actions—Operable Unit Two

On September 27, 1996, EPA Region III issued a ‘No Remedial Action’ ROD for Site-related groundwater. The No Action decision was based on EPA's conclusion that the groundwater presented no risks to human health or welfare or to the environment.

Five-Year Review

Section 121(c) of CERCLA, 42 U.S.C. 9621(c), as interpreted by § 300.430(f)(4)(ii) of the NCP, 40 CFR 300.430(f)(4)(ii), requires that EPA conduct a review, no less often than every five years after initiation of remedial action, at sites where hazardous substances or pollutants or contaminants will remain above levels that allow for unlimited use and unrestricted exposure. Attainment of the cleanup standards has resulted in the removal of all Site-related radiological contamination such that restrictions on use and/or exposure are unnecessary. Accordingly, no five-year reviews are required by CERCLA.

Applicable Deletion Criteria

In consultation with PADEP, EPA has determined that all appropriate Fund-financed response under CERCLA has been implemented at the Site and that no further response action by responsible parties is appropriate. Consequently, EPA proposes to delete the Site from the NPL.

State Concurrence

By letter dated December 28, 2001, the Pennsylvania Department of Environmental Protection concurred with the proposed deletion of the Austin Avenue Radiation Superfund Site from the NPL, provided that completion requirements for the Site described in the Final Closeout Report have been met, the cleanup has achieved the objectives established in the ROD and no institutional controls are required, radiologically contaminated soils and structures have been removed, and no action is required for groundwater at the Site. The conditions upon which the State has predicated its concurrence on the deletion of the Site from the NPL have been satisfied.

Dated: January 25, 2002.
Thomas C. Voltaggio,
Acting Regional Administrator, Region III.

[FR Doc. 02-3655 Filed 2-15-02; 8:45 am]

BILLING CODE 6560-50-P